OFFICE OF MANAGEMENT AND BUDGET

Public Availability of Fiscal Year 2004 Agency Inventories Under the Federal Activities Inventory Reform Act of 1998 (Public Law 105-270) (“FAIR Act”)

AGENCY: Office of Management and Budget, Executive Office of the President.

ACTION: Notice of public availability of agency inventory of activities that are not inherently governmental and of activities that are inherently governmental.

SUMMARY: In accordance with the FAIR Act, agency inventories of activities that are not inherently governmental are now available to the public from the agencies listed below. The FAIR Act requires that OMB publish an announcement of public availability of agency inventories of activities that are not inherently governmental upon completion of OMB's review and consultation process concerning the content of the agencies' inventory submissions. After review and consultation with OMB, agencies make their inventories available to the public, and these inventories also include activities that are inherently governmental. This is the third release of the FAIR Act inventories for FY 2004. Interested parties who disagree with the agency's initial judgment can challenge the inclusion or the omission of an activity on the list of activities that are not inherently governmental within 30 working days and, if not satisfied with this review, may demand a higher agency review/appeal.

The Office of Federal Procurement Policy has made available a FAIR Act User's Guide through its Internet site: http://www.whitehouse.gov/omb/procurement/fair-index.html. This User's Guide will help interested parties review FY 2004 FAIR Act inventories, and gain access to agency inventories through agency Web site addresses.

Joshua B. Bolten,
Director.

Attachment—Third Fair Act Release FY 2004
African Development Foundation | Mr. Larry Bevan, (202) 673-3948; http://www.adf.gov.
American Battle Monuments Commission | Mr. Alan Gregory, (703) 696-6868; http://www.abmc.gov.
Department of Commerce | Mrs. Maile Arthur, (202) 482-1574; http://www.doc.gov.
Department of the Interior | Ms. Donna Kalvels, (202) 219-0727; http://www.doi.gov.
Department of the Interior (IG) | Mr. Roy Kime, (202) 208-6232; http://www.oig.doi.gov.
Department of Justice | Mr. Larry Silvis, (202) 616-3754; http://www.usdoj.gov/jmd/pe/preface.htm.
Department of Labor | Mr. Al Stewart, (202) 693-4028; http://www.dol.gov.
Department of Labor (IG) | Mr. David LeDoux, (202) 693-5100; http://www.dol.gov.
Federal Election Commission | Mr. John O'Brien, (202) 694-1216; http://www.fec.gov.
Federal Labor Relations Authority | Mr. David Smith, (202) 218-7999; http://www.flra.gov.
Federal Retirement Thrift Investment Board | Mr. Richard White, (202) 942-1633; http://www.frtib.gov.
National Transportation Safety Board | Ms. Barbara Czech, (202) 314-6169; http://www.ntsb.gov.
Office of Government Ethics | Mr. Sean Donohue (202) 482-9231; http://www.usoge.gov.
Office of National Drug Control Policy | Mr. Daniel Petersen, (202) 395-6745; http://www.whitehousedrugpolicy.gov.
U.S. Agency for International Development | Ms. Deborah Lewis, (202) 712-0936; http://www.usaid.gov.
U.S. Agency for International Development (IG) | Mr. Robert S. Ross, (202) 712-0010; http://www.usaid.gov./oig/.
U.S. Commission on Civil Rights | Ms. Tina Louise Martin, (202) 376-8364; http://www.usccr.gov.
Woodrow Wilson Center | Ms. Ronnie Dempsey, (202) 691-4216; http://wwics.si.edu.

[FR Doc. 05-4715 Filed 3-9-05; 8:45 am]

BILLING CODE 3110-01-P